FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011284-061.

Title: Ocean Carrier Equipment Management Association Agreement.

Parties: APL Co. Pte. Ltd.; American President Lines, Ltd.; A.P. Moller-Maersk A/S; CMA CGM, S.A.; Atlantic Container Line, Companhia Libra de Navegacao; Compania Libra de Navegacion Uruguay S.A.; Compania Sudamericana de Vapores, S.A.; COSCO Containerlines Company Limited; Crowley Maritime Corporation; Evergreen Marine Corp. (Taiwan) Ltd.; Hamburg-Süd; Hapag-Lloyd AG; Hapag-Lloyd USA LLC; Hanjin Shipping Co., Ltd.; Hyundai Merchant Marine Co. Ltd.; Kawasaki Kisen Kaisha, Ltd.; Mitsui O.S.K. Lines Ltd.; Nippon Yusen Kaisha Line; Norasia Container Lines Limited; Orient Overseas Container Line Limited; and Yang Ming Marine Transport Corp.

Filing Party: Jeffrey F. Lawrence, Esq. and Donald J. Kassilke, Esq., Sher & Blackwell LLP, 1850 M Street, NW., Suite 900, Washington, DC 20036.

Synopsis: The amendment would change the name of Montemar Maritima S.A., delete Evergreen Marine Corp. (Taiwan) Ltd., and add the Evergreen Line Joint Service Agreement as a party to the agreement.

Agreement No.: 011910-003.

Title: HSDG/APL Space Charter Agreement.

Parties: Hamburg Sud and APL Co. PTE Ltd.

Filing Party: Wayne R. Rohde, Esq., Sher & Blackwell LLP, 1850 M Street, NW., Suite 900, Washington, DC 20036.

Synopsis: The amendment extends the duration of the agreement to on or about April 30, 2007.

Agreement No.: 011962-002.

Title: Consolidated Chassis Management Pool Agreement.

Parties: The Ocean Carrier Equipment Management Association and its member lines; the Association's subsidiary Consolidated Chassis Management LLC and its affiliates; China Shipping Container Lines Co., Ltd.; and Mediterranean Shipping Co., S.A.

Filing Party: Jeffrey F. Lawrence, Esq., Sher & Blackwell LLP, 1850 M Street, NW., Suite 900, Washington, DC 20036.

Synopsis: The amendment would change the name of Montemar Maritima S.A., delete Evergreen Marine Corp. (Taiwan) Ltd., and add the Evergreen Line Joint Service Agreement as a party to the agreement.

Agreement No.: 011968-001.

Title: Hanjin-Evergreen Cross Slot Charter Agreement.

Parties: Evergreen Line Joint Service Agreement (“Evergreen”) and Hanjin Shipping Co., Ltd. (“Hanjin”).

Filing Party: Paul M. Keane, Esq., Cichanowicz, Callan, Keane, Vengrow & Textor, LLP, 61 Broadway, Suite 3000, New York, NY 10006-2802.

Synopsis: This amendment deletes Evergreen Marine Corp. Ltd. and substitutes the Evergreen Line Joint Service Agreement.

Agreement No.: 011992.

Title: EUKOR/NYK Space Charter Agreement.

Parties: EUKOR Car Carriers, Inc. and Nippon Yusen Kaisha.

Filing Party: Wayne R. Rohde, Esq., Sher & Blackwell LLP, 1850 M Street, NW., Suite 900, Washington, DC 20036.

Synopsis: The agreement authorizes EUKOR to charter space to NYK for the carriage of motor vehicles on car carriers between the U.S. and Venezuela.

Agreement No.: 011993.

Title: MSC/APL/MOL Space Charter Agreement.

Parties: Mediterranean Shipping Company S.A.; American President Lines, Ltd and APL Co. Pte. Ltd.; and Mitsui O.S.K. Lines, Ltd.

Filing Party: Wayne R. Rohde, Esq., Sher & Blackwell LLP, 1850 M Street, NW., Suite 900, Washington, DC 20036.

Synopsis: The agreement authorizes MSC to charter space to APL and MOL between the U.S. East Coast and Argentina and Brazil.

By order of the Federal Maritime Commission.
Dated: March 30, 2007.
Bryant L. VanBrakle,
Secretary.

[FR Doc. E7-6250 Filed 4-3-07; 8:45 am]

BILLING CODE 6730-01-P